DEPARTMENT OF DEFENSE

Department of the Air Force

Notice of Intent To Prepare a Supplemental Environmental Impact Statement for the Expansion of the Foreign Military Sales F-35 Pilot Training Center at Ebbing Air National Guard Base, Arkansas

AGENCY: Department of the Air Force, Department of Defense,

ACTION: Notice of intent.

SUMMARY: The Department of the Air Force (DAF) is issuing this Notice of Intent (NOI), in accordance with the National Environmental Policy Act (NEPA), to prepare a supplemental environmental impact statement (SEIS) to evaluate the potential environmental impacts associated with proposed changes to the Foreign Military Sales (FMS) Pilot Training Center (PTC) at Ebbing Air National Guard (ANG) Base where the ANG is a tenant at Fort Smith Regional Airport, Arkansas. The SEIS evaluates the Proposed Action, the Refine Operations Alternative, and the No Action Alternative. The DAF is the leading agency on the preparation of this SEIS and the Federal Aviation Administration (FAA), the Airports Division, is participating as a cooperating agency because the action involves changes to the Airport Layout Plan.

FOR FURTHER INFORMATION CONTACT: The project website (https://www.fmsptceis.com/) provides information related to the SEIS, such as environmental documents, schedule, and project details. Members of the public who want to receive future mailings informing them of the availability of the Draft SEIS and Final SEIS are encouraged to submit a request via the website. For other inquiries, please contact Daniel Hawkins, AETC Public Affairs by email at AETC.PAO@us.af.mil (include Ebbing FMS SEIS in the subject line of the email), by mail at AETC/PA 100 H Street West, Bldg. 905, Joint Base San Antonio, Randolph, TX 78150, or by phone at (210) 652-4400.

SUPPLEMENTARY INFORMATION: In January 2023, the DAF published the Beddown of a Foreign Military Sales (FMS) Pilot Training Center (PTC) at Ebbing Air National Guard Base, Arkansas or Selfridge Air National Guard Base, Michigan Final Environmental Impact Statement (hereinafter referred to as the “2023 FMS PTC EIS”) and signed the DAF Record of Decision (ROD) on March 11, 2023, selecting Ebbing ANG Base as the location to establish the FMS F-35 PTC. The FAA also served as a cooperating agency for the development of the initial EIS. After the signing of the DAF ROD for the 2023 FMS PTC EIS, new training requirements have emerged due to additional FMS purchases of F-35 aircraft, including operations that incorporate the F-35B's Short Takeoff and Vertical Landing (STOVL) capabilities.

The purpose for the DAF's Proposed Action furthers the 2023 FMS PTC EIS and ROD to establish a permanent FMS PTC at a single location within the Continental United States to provide consolidated FMS F-35 pilot training for our FMS nation partners. The need for the Proposed Action addresses the increased capacity required to support the additional purchases of FMS aircraft by our nation partners. The DAF has identified a Proposed Action, the No Action Alternative, and the Refine Operations Alternative to be carried forward for analysis in the SEIS. Under all alternatives, air crews would utilize existing designated special use airspace over areas in Arkansas and Oklahoma. No new special use airspace would be created or modified as part of any of the alternatives.

Under the Proposed Action, the DAF proposes to expand the permanent FMS PTC mission at Ebbing ANG Base over what was analyzed and authorized in the 2023 FMS PTC EIS and ROD. This Proposed Action would beddown an additional 12 F-35s at Ebbing ANG Base and increase F-35 operations (to include F-35B STOVL operations), personnel, and new facilities. Proposed changes in aircraft operations that were not evaluated in the 2023 FMS PTC EIS include the addition of STOVL operations for F-35B aircraft; F-35A and F-35B flight tracks and flight profiles would be revised based on an updated training syllabus; afterburner would be used on 95% of departures for both the F-35A and F-35B; and there would be no reduced-power departures, allowing the F-35 aircraft to accelerate to a 350-knot climb airspeed.

Under the No Action Alternative, the DAF would not expand the FMS PTC mission at Ebbing ANG Base and the DAF would proceed with the implementation of the 2023 FMS PTC ROD issued on March 11, 2023.

Under the Refine Operations Alternative, the DAF would not beddown the additional 12 F-35 aircraft, but aircraft operations would be modified as described in the Proposed Action for the existing 24 F-35 aircraft to satisfy the additional requirements and operational procedures identified for F-35A and F-35B aircraft after completion of the 2023 FMS PTC EIS. With the Refine Operations Alternative, the numbers of annual operations at Ebbing ANG Base, airspace events, Military Training Route events, nighttime operations and events, as well as use of munitions and countermeasures would not change from those listed under the 2023 FMS PTC EIS. Personnel numbers would not change from those described in the 2023 FMS PTC EIS. No additional construction activities would occur under the Refine Operations alternative except for the construction of a vertical landing pad for STOVL operations. Both the Proposed Action and Refine Operations Alternative would require changes to the Airport Layout Plan, necessitating review and approval by the FAA. Potential impacts may include impacts resulting from, or to, noise, land use, socioeconomics, cultural resources, biological resources, physical resources, and air quality.

Potential permits that could be required include, but are not limited to, Section 404 of the Clean Water Act, Clean Air Act, General Construction, and a National Pollutant Discharge Elimination System permit.

Consultation will include, but not necessarily be limited to, consultation under Section 7 of the Endangered Species Act and consultation under Section 106 of the National Historic Preservation Act, to include consultation with federally recognized Native American Tribes. The Notice of Availability (NOA) of the Draft SEIS is anticipated in the Summer of 2025 and the NOA for the Final SEIS is anticipated in the Spring of 2026. A decision could be made no earlier than 30 days after the Final SEIS is published. There is no formal scoping period that will take place for this project and there will be no public scoping meetings as allowed in 32 CFR 989.20(b).

Tommy W. Lee,
Acting Air Force Federal Register Liaison Officer.

[FR Doc. 2025-07091 Filed 4-23-25; 8:45 am]

BILLING CODE 3911-44-P